DEPARTMENT OF COMMERCE

International Trade Administration

Executive-Led Trade Mission to South Africa and Zambia

AGENCY: International Trade Administration, Department of Commerce.

ACTION: Notice.

SUMMARY: The United States Department of Commerce, International Trade Administration, U.S. and Foreign Commercial Service (US&FCS) is amending notice for the Executive-Led Trade Mission to South Africa and Zambia scheduled for November 26-30, 2012, published at 77 FR 31574, May 29, 2012, to expand the eligibility to include U.S. trade associations and to set a new application deadline for trade association applicants only of November 12, 2012.

FOR FURTHER INFORMATION CONTACT: Frank Spector, Office of Domestic Operations, Trade Promotion Programs, Phone: 202-482-2054; Fax: 202-482-9000, Email: Frank.Spector@trade.gov.

SUPPLEMENTARY INFORMATION: The US&FCS has received applications from trade associations to participate in the Executive-Led Trade Mission to South Africa and Zambia scheduled for November 26-30, 2012, announced in the Notice published at 77 FR 31574, May 29, 2012, as previously amended by notices at 77 FR 48498 (Aug. 14, 2012) adding the water sector as a targeted sector and at 77 FR 60966 (Oct. 5, 2012) extending the original application deadline. As previously published, the notice addressed only U.S. company eligibility. In response to the interest expressed by trade associations, US&FCS is amending the notice to expand the eligibility to include U.S. trade associations and to set a new application deadline for trade association applicants only of November 12, 2012. Applications from U.S. companies were due by October 12, 2012. US&FCS has been making selection decisions on U.S. company applicants on a rolling basis since August 5, 2012. Applications will be accepted after the deadline only to the extent that space remains and scheduling constraints permit.

Amendments

For these reasons, the Fees and Expenses, Conditions for Participation, Selection Criteria for Participation, and Timeframe for Recruitment and Applications sections of the Notice of the Executive-Led Trade Mission to South Africa and Zambia are amended to read as follows:

Fees and Expenses:

After a company or trade association has been selected to participate on the mission, a payment to the U.S. Department of Commerce in the form of a participation fee is required. The participation fee is $4900 for large firms and $4,350 for small or medium-sized enterprises (SME) ¹ and trade associations. The fee for each additional representative (large firm or SME/trade association) is $450. Expenses for travel, lodging, some meals, and incidentals will be the responsibility of each mission participant.

¹ An SME is defined as a firm with 500 or fewer employees or that otherwise qualifies as a small business under SBA regulations (see http://www.sba.gov/services/contractingopportunities/sizestandardstopics/index.html ). Parent companies, affiliates, and subsidiaries will be considered when determining business size. The dual pricing reflects the Commercial Service's user fee schedule that became effective May 1, 2008 (see http://www.export.gov/newsletter/march2008/initiatives.html for additional information).

Conditions For Participation:

Applicants must submit a completed and signed mission application and supplemental application materials, including adequate information on the company's (or in the case of a trade association, represented companies') products and/or services, primary market objectives, and goals for participation. If the Department of Commerce receives an incomplete application, the Department may either: Reject the application, request additional information/clarification, or take the lack of information into account when evaluating the applications.

Each applicant must also certify that the products and services it seeks to export through the mission are either produced in the United States, or, if not, are marketed under the name of a U.S. firm and have at least fifty-one percent U.S. content. In the case of a trade association, the applicant must certify that for each company to be represented by the association, the products and/or services the represented company seeks to export are either produced in the United States or, if not, marketed under the name of a U.S. firm and have at least fifty-one percent U.S. content.

Selection Criteria For Participation:

• Suitability of the company's (or in the case of a trade association, represented companies') products or services to the mission goals.

• Applicant's (or in the case of a trade association, represented companies') potential for business in South Africa and Zambia, including likelihood of exports resulting from the mission.

• Consistency of the applicant's (or in the case of a trade association, represented companies') goals and objectives with the stated scope of the mission.

Diversity of company size, sector or subsector, and location may also be considered during the review process.

Referrals from political organizations and any documents containing references to partisan political activities (including political contributions) will be removed from an applicant's submission and not considered during the selection process.

Timeframe for Recruitment and Applications

Mission recruitment will be conducted in an open and public manner, including publication in the Federal Register, posting on the Commerce Department trade mission calendar— www.ita.doc.gov/doctm/tmcal.html—and other Internet web sites, press releases to general and trade media, direct mail, broadcast fax, notices by industry trade associations and other multiplier groups, and publicity at industry meetings, symposia, conferences, and trade shows.

Recruitment for the mission began in March 2012 and concluded October 12, 2012 for U.S. company participants. The U.S. Department of Commerce began reviewing applications and making selection decisions on a rolling basis beginning August 6, 2012, until the maximum of 20 participants is selected. For U.S. trade associations only, applications will be accepted until November 12, 2012. Applications received by U.S. companies after October 12, 2012 and by U.S. trade associations after November 12, 2012, will be considered only if space and scheduling constraints permit.

Frank Spector,
Senior International Trade Specialist.

[FR Doc. 2012-27236 Filed 11-6-12; 8:45 am]

BILLING CODE 3510-FP-P